DEPARTMENT OF DEFENSE

Office of the Secretary

[Docket ID: DoD-2024-OS-0062]

Proposed Collection; Comment Request

AGENCY: Office of the Under Secretary of Defense for Acquisition and Sustainment (OUSD(A&S)), Department of Defense (DoD).

ACTION: 60-Day information collection notice.

SUMMARY: In compliance with the Paperwork Reduction Act of 1995, the OUSD(A&S) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 29, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OUSD (A&S), 1400 Defense Pentagon, Washington, DC 20301, ATTN: Dr. Maureen Raley, or call 571-372-6278.

SUPPLEMENTARY INFORMATION:

Title; Associated Form; and OMB Number: Industrial Capabilities Questionnaire; DD Form 2737; OMB Control Number 0704-0377.

Needs and Uses: The information collection requirement is necessary to provide the adequate industrial capability analyses to indicate a diverse, healthy, and competitive industrial base capable of meeting DoD demands. Additionally, the information is required to perform the industrial assessments required by chapter 382 of title 10 of the U.S. Code. Respondents are companies/facilities specifically identified as being of interest to the DoD. The DD Form 2737, “Industrial Capabilities Questionnaire,” records pertinent information needed to conduct industrial base analysis for senior DoD leadership to ensure a robust defense industrial base that supports the warfighter.

Affected Public: Business or other for-profit; Not-for-profit institutions.

Annual Burden Hours: 153,600.

Number of Respondents: 12,800.

Responses per Respondent: 1.

Annual Responses: 12,800.

Average Burden per Response: 12 hours.

Frequency: On occasion.

Dated: May 22, 2024.
Aaron T. Siegel,
Alternate OSD Federal Register Liaison Officer, Department of Defense.

[FR Doc. 2024-11619 Filed 5-24-24; 8:45 am]

BILLING CODE 6001-FR-P